TENNESSEE VALLEY AUTHORITY

[Meeting No. 07-02]

Sunshine Act Meeting

Time and Date: 9:30 a.m. (EDT), March 30, 2007, TVA West Tower Auditorium, 400 West Summit Hill Drive, Knoxville, Tennessee 37902.

Status: Open.

Agenda

Old Business

Approval of minutes of January 25, 2007, Board Meeting.

New Business

1. Chairman's Report.

2. President's Report.

3. Report of the Finance, Strategy, and Rates Committee.

A. Strategic Plan Discussion.

B. Customer service issues.

i. Agreements to serve two directly-served customers.

ii. Pricing during startup and testing.

iii. Future year price offer to a directly-served customer.

iv. Pilot time of use pricing.

4. Report of the Operations, Environment, and Safety Committee.

A. Authorization for the CEO to negotiate and approve a lease of a combined cycle electric generating facility.

B. Authorization for acquisition of combustion turbine and other equipment, real property, and initial engineering services for a potential generation facility.

5. Report of the Audit and Ethics Committee.

A. Selection of an external auditor.

6. Report of the Human Resources Committee.

7. Report of the Community Relations Committee.

8. Information Items.

A. Executive Selections.

B. Filing of condemnation cases in Bowling Green, Kentucky.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: March 23, 2007.
Maureen H. Dunn,
General Counsel and Secretary.

[FR Doc. 07-1569 Filed 3-27-07; 11:22 am]

BILLING CODE 8120-08-P